NATIONAL AERONAUTICS AND SPACE ADMINISTRATION

[Notice (03-014)]

NASA Advisory Council, Space Science Advisory Committee Structure and Evolution of the Universe Subcommittee Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC), Structure and Evolution of the Universe Subcommittee (SEUS).

DATES: Thursday, February 27, 2003, 8 a.m. to 5:30 p.m., and Friday, February 28, 2003, 8 a.m. to 1 p.m.

ADDRESSES: Jet Propulsion Laboratory, Building 167 Conference Room, 4800 Oak Grove Drive, Pasadena, California 91109.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Status of Astronomy and Physics Programs.

—Structure and Evolution of the Universe Theme Update.

—Review of Space Science Strategic Plan.

—Review of Structure and Evolution of the Universe Program at the Jet Propulsion Laboratory.

Due to increased security measures at the NASA Jet Propulsion Laboratory (JPL), interested members of the public including the news media must contact Helen Paley (818) 354-6427, Cecil Brower (818) 354-6974, or Joe Aguirre (818) 354-0890 no later than Friday, February 21, 2003, by 12 noon p.d.t. to make arrangements for badging, parking, and being escorted while at JPL. Access to JPL will be limited to those who show proper photo identification and who have made prior arrangements to attend.

It is imperative that the meeting be held on these dates to accommodate the scheduling priorities of the key participants. Visitors will be requested to sign a visitor's register.

June W. Edwards,
Advisory Committee Management Officer, National Aeronautics and Space Administration.

[FR Doc. 03-3508 Filed 2-11-03; 8:45 am]

BILLING CODE 7510-01-P